DEPARTMENT OF JUSTICE

[OMB Number 1105-0New]

Agency Information Collection Activities; Proposed eCollection eComments Requested; New Collection

AGENCY: Antitrust Division, Department of Justice.

ACTION: 60 Day notice.

SUMMARY: The Department of Justice (DOJ), Antitrust Division, will be submitting the following information collection request to the Office of Management and Budget (OMB) for review and approval in accordance with the Paperwork Reduction Act of 1995.

DATES: Comments are encouraged and will be accepted for 60 days until September 8, 2025.

FOR FURTHER INFORMATION CONTACT: If you have additional comments especially on the estimated public burden or associated response time, suggestions, or need a copy of the proposed information collection instrument with instructions or additional information, please contact Sarah Oldfield, Deputy Chief Legal Advisor, Department of Justice, Antitrust Division, 950 Pennsylvania Ave. NW, Room 3304, Washington, DC 20530 (email: sarah.oldfield@usdoj.gov; phone: 202-305-8915).

SUPPLEMENTARY INFORMATION: Written comments and suggestions from the public and affected agencies concerning the proposed collection of information are encouraged. Your comments should address one or more of the following four points:

—Evaluate whether the proposed collection of information is necessary for the proper performance of the functions of the Department of Justice, Antitrust Division, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: New collection.

2. The Title of the Form/Collection:

3. The agency form number, if any, and the applicable component of the Department sponsoring the collection: There is no agency form number for this collection. The applicable component within the Department of Justice is the Antitrust Division.

4. Affected public who will be asked or required to respond, as well as a brief abstract: Primary respondents will be individuals or households. The Healthcare Competition Complaint form facilitates reporting by members of the public of complaints, concerns, or information regarding potential antitrust violations. Respondents will be able to complete and submit information electronically through the Healthcare Competition Complaint form on the Department of Justice's website.

5. An estimate of the total number of respondents and the amount of time estimated for an average respondent to respond: 2,345 respondents annually and 12 minutes for an individual to respond.

6. An estimate of the total public burden (in hours) associated with the collection: 28,140 annual burden hours.

7. An estimate of the total number of respondents and the amount of time estimated for an average respondent to respond: An estimated 2,345 members of the public will respond annually to the Healthy Competition Complaint form. Based on a survey conducted of a sample of respondents, the amount of time estimated for an individual to respond is 12 minutes.

8. An estimate of the total public burden (in hours) associated with the collection: The estimated public burden associated with this collection is 28,140 hours.

If additional information is required contact: Darwin Arceo, Department Clearance Officer, United States Department of Justice, Justice Management Division, Policy and Planning Staff, Two Constitution Square, 145 N Street NE, Washington, DC 20530.

Dated July 3, 2025.
Darwin Arceo,
Department Clearance Officer for PRA, U.S. Department of Justice.

[FR Doc. 2025-12664 Filed 7-7-25; 8:45 am]

BILLING CODE 4410-CW-P